DEPARTMENT OF TRANSPORTATION

Federal Aviation Administration

14 CFR Part 39

[Docket No. FAA-2008-0977; Directorate Identifier 2008-NM-124-AD; Amendment 39-15775; AD 2008-26-09]

RIN 2120-AA64

Airworthiness Directives; Bombardier Model CL-600-2B19 (Regional Jet Series 100 & 440) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Bombardier Aerospace has completed a system safety review of the CL-600-2B19 aircraft fuel system against the new fuel tank safety standards * * *.

The assessment showed that insufficient electrical bonding between the refuel/defuel shutoff valves and the aircraft structure could occur due to the presence of a non-conductive gasket (Gask-O-Seal). In addition, it was also determined that the presence of an anodic coating on the shutoff valve electrical conduit connection fitting could affect electrical bonding. The above conditions, if not corrected, could result in arcing and potential ignition source inside the fuel tank during lightning strikes and consequent fuel tank explosion.

* * * * *

We are issuing this AD to require actions to correct the unsafe condition on these products.

DATES: This AD becomes effective January 28, 2009.

The Director of the Federal Register approved the incorporation by reference of a certain publication listed in this AD as of January 28, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Rocco Viselli, Aerospace Engineer, Airframe and Propulsion Branch, ANE-171, FAA, New York Aircraft Certification Office, 1600 Stewart Avenue, Suite 410, Westbury, New York 11590; telephone (516) 228-7331; fax (516) 794-5531.

SUPPLEMENTARY INFORMATION:

Discussion

We issued a notice of proposed rulemaking (NPRM) to amend 14 CFR part 39 to include an AD that would apply to the specified products. That NPRM was published in the Federal Register on September 17, 2008 (73 FR 53773). That NPRM proposed to correct an unsafe condition for the specified products. The MCAI states:

Bombardier Aerospace has completed a system safety review of the CL-600-2B19 aircraft fuel system against the new fuel tank safety standards, introduced in Chapter 525 of the Airworthiness Manual through Notice of Proposed Amendment (NPA) 2002-043. The identified non-compliances were assessed using Transport Canada Policy Letter No. 525-001 to determine if mandatory corrective action is required.

The assessment showed that insufficient electrical bonding between the refuel/defuel shutoff valves and the aircraft structure could occur due to the presence of a non-conductive gasket (Gask-O-Seal). In addition, it was also determined that the presence of an anodic coating on the shutoff valve electrical conduit connection fitting could affect electrical bonding. The above conditions, if not corrected, could result in arcing and potential ignition source inside the fuel tank during lightning strikes and consequent fuel tank explosion.

To correct the unsafe condition, this directive mandates the modification of the [shutoff valves in the] refuel/defuel system.

You may obtain further information by examining the MCAI in the AD docket.

Comments

We gave the public the opportunity to participate in developing this AD. We considered the comments received.

Request To Refer to New Service Bulletin Revision

Air Wisconsin Airlines Corporation (Air Wisconsin) requests that we revise paragraph (f)(1) of the NPRM to refer to Bombardier Service Bulletin 601R-28-053, Revision D, dated August 20, 2008.

We agree to change paragraph (f)(1) of this AD to refer to Bombardier Service Bulletin 601R-28-053, Revision D. We referred to Bombardier Service Bulletin 601R-28-053, Revision C, dated March 14, 2006, as the appropriate source of service information for accomplishing the actions in the NPRM. We have reviewed Bombardier Service Bulletin 601R-28-053, Revision D, and find that it is essentially the same as the prior revisions referenced in the NPRM; it differs from Bombardier Service Bulletin 601R-28-053, Revision C, by correcting a statement in the Description paragraph, removing a part number and the Interchangeability Code from the Disposition of Parts table, and having small editorial changes that do not affect its technical content. We have changed paragraph (f)(1) of this AD accordingly, and added credit for actions done according to Bombardier Service Bulletin 601R-28-053, Revision C, to paragraph (f)(2) of this AD.

Request To Supersede an Existing AD

AWAC requests that we supersede AD 2006-02-10 with this AD, as it addresses airplanes modified by Bombardier Service Bulletin 601R-28-053, dated July 12, 2004.

We disagree with this request, as this AD applies to different airplanes than AD 2006-02-10, amendment 39-14462 (71 FR 4040, January 25, 2006). That AD applies to certain airplanes modified by Bombardier Service Bulletin 601R-28-053, dated July 12, 2004, and other airplanes having serial numbers 7940 through 7988. This AD does not apply to those airplanes. We have not changed the AD in this regard.

Request for Method of Compliance for Other Airplanes

AWAC requests that airplanes modified according to AD 2006-02-10 be approved as complying with the proposed AD.

We disagree with this request. As mentioned in the prior response, AD 2006-02-10 applies to different airplanes from those specified in this AD, and are affected by different service information. Further, those airplanes are not subject to the requirements of this AD. We have not changed the AD in this regard.

Request To Give Credit for Certain Service Bulletin Revisions

AWAC requests that we give credit for actions done according to Bombardier Service Bulletin 601R-28-053, dated July 12, 2004; Revision A, dated April 21, 2005; Revision B, dated September 15, 2005; and Revision C, dated March 14, 2006. AWAC requests that we also give credit for Bombardier Service Bulletin A601R-28-064, dated April 21, 2005; Revision A, dated September 15, 2005; Revision B, dated March 14, 2006; and Revision C, dated April 19, 2006.

We partially agree with this request. Credit for actions done according to Bombardier Service Bulletin 601R-28-053, Revisions A and B, appears in paragraph (f)(2) of the AD; and, as mentioned above, we are adding credit for Bombardier Service Bulletin 601R-28-053, Revision C, to that paragraph. Airplanes on which Bombardier Service Bulletin 601R-28-053, dated July 12, 2004, has been done are not subject to this AD, so we have not given credit in the AD for Bombardier Service Bulletin 601R-28-053, dated July 12, 2004. Bombardier Service Bulletin A601R-28-064 is not a method of compliance for this AD, so no credit is given for it in this AD.

Request To Discuss Warranty Considerations in the Costs of Compliance

AWAC states that there is no discussion of warranty consideration in the service bulletin; we infer that AWAC requests warranty information in the Costs of Compliance section of the AD.

We disagree with this request. Warranty information is provided by the manufacturer, and we have not changed the AD in this regard.

Change to Costs of Compliance

Based on new information, we have reduced the estimated number of products in the Costs of Compliance section of the NPRM from 970 to 677. The estimated cost per product stays the same, while the estimated cost of this AD to U.S. operators is reduced to $2,112,917.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 677 products of U.S. registry. We also estimate that it will take about 26 work-hours per product to comply with the basic requirements of this AD. The average labor rate is $80 per work-hour. Required parts will cost about $1,041 per product. Where the service information lists required parts costs that are covered under warranty, we have assumed that there will be no charge for these parts. As we do not control warranty coverage for affected parties, some parties may incur costs higher than estimated here. Based on these figures, we estimate the cost of this AD to the U.S. operators to be $2,112,917, or $3,121 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-26-09 Bombardier, Inc. (Formerly Canadair): Amendment 39-15775. Docket No. FAA-2008-0977; Directorate Identifier 2008-NM-124-AD.

Effective Date

(a) This airworthiness directive (AD) becomes effective January 28, 2009.

Affected ADs

(b) None.

Applicability

(c) This AD applies to Bombardier Model CL-600-2B19 (Regional Jet Series 100 & 440) airplanes, certificated in any category, as specified in paragraphs (c)(1) and (c)(2) of this AD.

(1) Airplanes having serial numbers 7003 through 7067 and 7069 through 7939 that have not had the modification of the refuel/defuel shutoff valves incorporated according to the original issue of Bombardier Service Bulletin 601R-28-053, dated July 12, 2004; and,

(2) Airplanes having serial numbers 7989, 7990, and 8000 through 8034.

Subject

(d) Air Transport Association (ATA) of America Code 28: Fuel.

Reason

(e) The mandatory continuing airworthiness information (MCAI) states:

Bombardier Aerospace has completed a system safety review of the CL-600-2B19 aircraft fuel system against the new fuel tank safety standards, introduced in Chapter 525 of the Airworthiness Manual through Notice of Proposed Amendment (NPA) 2002-043. The identified non-compliances were assessed using Transport Canada Policy Letter No. 525-001 to determine if mandatory corrective action is required.

The assessment showed that insufficient electrical bonding between the refuel/defuel shutoff valves and the aircraft structure could occur due to the presence of a non-conductive gasket (Gask-O-Seal). In addition, it was also determined that the presence of an anodic coating on the shutoff valve electrical conduit connection fitting could affect electrical bonding. The above conditions, if not corrected, could result in arcing and potential ignition source inside the fuel tank during lightning strikes and consequent fuel tank explosion.

To correct the unsafe condition, this directive mandates the modification of the [shutoff valves in the] refuel/defuel system.

Actions and Compliance

(f) Unless already done, do the following actions.

(1) Within 5,000 flight hours after the effective date of this AD, modify the refuel/defuel system in the center wing fuel tank in accordance with the Accomplishment Instructions of Bombardier Service Bulletin 601R-28-053, Revision D, dated August 20, 2008.

(2) Modifying the refuel/defuel system is also acceptable for compliance with the requirements of paragraph (f)(1) of this AD if done before the effective date of this AD in accordance with one of the following service bulletins: Bombardier Service Bulletin 601R-28-053, Revision A, dated April 21, 2005; Revision B, dated September 15, 2005; or Revision C, dated March 14, 2006.

FAA AD Differences

Note 1: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Rocco Viselli, Aerospace Engineer, Airframe and Propulsion Branch, ANE-171, FAA, New York ACO, 1600 Stewart Avenue, Suite 410, Westbury, New York 11590; telephone (516) 228-7331; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2008-20, dated June 12, 2008; and Bombardier Service Bulletin 601R-28-053, Revision D, dated August 20, 2008; for related information.

Material Incorporated by Reference

(i) You must use Bombardier Service Bulletin 601R-28-053, Revision D, dated August 20, 2008, to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on December 14, 2008.
Michael J. Kaszycki,
Acting Manager, Transport Airplane Directorate, Aircraft Certification Service.

[FR Doc. E8-30261 Filed 12-23-08; 8:45 am]

BILLING CODE 4910-13-P